DEPARTMENT OF COMMERCE

International Trade Administration

[C-570-968]

Aluminum Extrusions From the People's Republic of China: Preliminary Results of Countervailing Duty Administrative Review and Rescission of Review, in Part; 2015

AGENCY: Enforcement and Compliance, International Trade Administration, Department of Commerce.

SUMMARY: The Department of Commerce (the Department) preliminarily determines that countervailable subsidies have been provided to producers and exporters of aluminum extrusions from the People's Republic of China (PRC). The period of review (POR) is January 1, 2015 through December 31, 2015.

DATES: Effective June 7, 2017.

FOR FURTHER INFORMATION CONTACT: Tyler Weinhold or Tom Bellhouse, AD/CVD Operations, Office VI, Enforcement and Compliance, International Trade Administration, U.S. Department of Commerce, 1401 Constitution Avenue NW., Washington, DC 20230; telephone: (202) 482-1121 or (202) 482-0257, respectively.

SUPPLEMENTARY INFORMATION:

Background

The Department published the notice of initiation of this administrative review on July 7, 2016.¹ On January 13, 2017, the Department initiated an administrative review of one additional company that had been inadvertently omitted from the Initiation Notice.² Because the petitioner withdrew its request for review of certain companies, only 18 companies remain under review.³ On January 17, 2017, the Department selected tenKsolar (Shanghai) Aluminum Co., Ltd. (tenKsolar) and Changzhou Jinxi Machinery Co., Ltd. (Changzhou Jinxi) for individual examination.⁴

¹ See Initiation of Antidumping and Countervailing Duty Administrative Reviews, 81 FR 44260 (July 7, 2016) (Initiation Notice).

² See Initiation of Antidumping and Countervailing Duty Administrative Reviews, 82 FR 4294 & n.10, dated January 13, 2017 (Corrected Initiation Notice).

³ The following companies are under review: (1) Changzhou Jinxi, (2) tenKsolar, (3) Classic & Contemporary Inc., (4) Daya Hardware Co., LTD, (5) Dongguan Golden Tiger Hardware Industrial Co., Ltd., (6) ETLA Technology (Wuxi) Co., Ltd., (7) Global Hi-Tek Precision Limited, (8) Jiangsu Zhenhexiang New Material Technology Co., Ltd., (9) Johnson Precision Engineering (Suzhou) Co Ltd, (10) Kam Kiu Aluminium Products Sdn. Bhd., (11) Ningbo Haina Machine Co., Ltd., (12) Ningbo Innopower Tengda Machinery Co., Ltd., (13) Ningbo Yinzhou Sanhua Electric Machine Factory, (14) Precision Metal Works LTD., (15) Summit Heat Sinks Metal Co., Ltd., (16) Suzhou New Hongji Precision Part Co. Ltd., (17) Taishan City Kam Kiu Aluminium Extrusion Co., Ltd., and (18) Wuxi Huida Aluminum Co., Ltd.

⁴ See Memorandum, “2015 Administrative Review of the Countervailing Duty Order on Aluminum Extrusions from the People's Republic of China,” dated January 17, 2017 (Respondent Selection Memorandum).

For a complete description of the events that followed the initiation of this review, see the Preliminary Decision Memorandum.⁵ A list of topics discussed in the Preliminary Decision Memorandum is included as Appendix I to this notice. The Preliminary Decision Memorandum is a public document and is on file electronically via Enforcement and Compliance's Antidumping and Countervailing Duty Centralized Electronic Service System (ACCESS). ACCESS is available to registered users at http://access.trade.gov, and is available to all parties in the Central Records Unit, Room B8024 of the main Department of Commerce building. In addition, a complete version of the Preliminary Decision Memorandum can be accessed directly at http://enforcement.trade.gov/frn/. The signed and electronic versions of the Preliminary Decision Memorandum are identical in content.

⁵ See Memorandum, “Decision Memorandum for the Preliminary Results of the Countervailing Duty Administrative Review of Aluminum Extrusions from the People's Republic of China and Rescission of Review, in Part; 2015,” dated concurrently with, and hereby adopted by, this notice (Preliminary Decision Memorandum).

Scope of the Order

The merchandise covered by the Order is aluminum extrusions which are shapes and forms, produced by an extrusion process, made from aluminum alloys having metallic elements corresponding to the alloy series designations published by The Aluminum Association commencing with the numbers 1, 3, and 6 (or proprietary equivalents or other certifying body equivalents).⁶

⁶ See Preliminary Decision Memorandum for a complete description of the scope of the Order.

Imports of the subject merchandise are provided for under the following categories of the Harmonized Tariff Schedule of the United States (HTSUS): 6603.90.8100, 7616.99.51, 8479.89.94, 8481.90.9060, 8481.90.9085, 9031.90.9195, 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of this Order is dispositive.

Methodology

The Department is conducting this review in accordance with section 751(a)(1)(A) of the Tariff Act of 1930, as amended (the Act). For each of the subsidy programs found countervailable, the Department preliminarily determines that there is a subsidy, e.g., a financial contribution by an “authority” that confers a benefit, and that the subsidy is specific.⁷

⁷ See sections 771(5)(B) and (D) of the Act regarding financial contribution; section 771(5)(E) of the Act regarding benefit; and section 771(5A) of the Act regarding specificity.

For a full description of the methodology underlying our preliminary conclusions, including our reliance, on adverse facts available pursuant to sections 776(a) and (b) of the Act, see the Preliminary Decision Memorandum. As explained in the Preliminary Decision Memorandum, the Department relied on adverse facts available because the Government of China (GOC) and both of the mandatory respondents did not act to the best of their ability in responding to the Department's requests for information, and consequently, has drawn an adverse inference, where appropriate, in selecting from among the facts otherwise available.⁸ For further information, see “Use of Facts Otherwise Available and Adverse Inferences” in the Preliminary Decision Memorandum.

⁸ See sections 776(a) and (b) of the Act.

Rescission of Review, in Part

For those companies named in the Initiation Notice for which all review requests have been timely withdrawn, we are rescinding this administrative review in accordance with 19 CFR 351.213(d)(1). These companies are listed at Appendix II to this notice. For these companies, countervailing duties shall be assessed at rates equal to the rates of the cash deposits for estimated countervailing duties required at the time of entry, or withdrawal from warehouse, for consumption, during the POR, in accordance with 19 CFR 351.212(c)(2).

Also, between July 25, 2016 and August 8, 2016 the Department timely received no-shipment certifications from eight companies.⁹ However, these companies were also included in the Petitioner's timely withdrawal of its review requests, and because no party other than the petitioner requested a review of these companies, the Department is rescinding the administrative review of these companies pursuant to 19 CFR 351.213(d)(1).¹⁰

⁹ See Preliminary Decision Memorandum at “Partial Rescission of Review.”

¹⁰ Id.

Preliminary Rate for the Non-Selected Companies Under Review

The statute and the Department's regulations do not directly address the establishment of rates to be applied to companies not selected for individual examination where the Department limits its examination in an administrative review pursuant to section 777A(e)(2) of the Act. However, the Department normally determines the rates for cooperative non-selected companies in reviews in a manner that is consistent with sections 703(d) and 705(c)(5)(A) of the Act, which provide that the Department shall determine an estimated all-others rate for companies not individually examined. This rate shall be an amount equal to the weighted average of the estimated subsidy rates established for those companies individually examined, excluding any zero and de minimis rates and any rates based entirely on facts available under section 776 of the Act. However, if the countervailable subsidy rates established for all exporters and producers individually investigated are zero or de minimis, or are determined entirely based on facts available under section 776 of the Act, the Department may use any reasonable method to establish the all-others rate. In past reviews, the Department has determined that a reasonable method to use when all the rates of selected mandatory respondents are zero, de minimis or determined entirely on facts available, is to assign non-selected respondents the average of the most recently determined rates that are not zero, de minimis, or based entirely on facts available.¹¹ Because all individually calculated rates in this review are based entirely on facts available, we have preliminarily based the rate for cooperative non-selected companies on the rate established for cooperative non-selected companies in Aluminum Extrusions 2014 Review,¹² which is the average of the most recently determined rates established for cooperative individually examined respondents in any segment of this proceeding that are not zero, de minimis, or based entirely on facts available.¹³

¹¹ See, e.g., Circular Welded Carbon Steel Pipes and Tubes from Turkey: Final Results of Countervailing Duty Administrative Review; Calendar Year 2012 and Rescission of Countervailing Duty Administrative Review, in Part,” 79 FR 51140, 51141 (August 27, 2014) (Circular Welded Pipe From Turkey); and Certain Frozen Warmwater Shrimp from the Socialist Republic of Vietnam: Final Results and Final Partial Rescission of Antidumping Duty Administrative Review, 74 FR 47191, 47194-95 (September 15, 2009) (Shrimp from Vietnam).

¹² See Aluminum Extrusions from the People's Republic of China: Final Results and Partial Rescission of Countervailing Duty Administrative Review; 2014, 81 FR 92778 (Aluminum Extrusions 2014 Review).

¹³ See Preliminary Decision Memorandum at “Ad Valorem Rate for Cooperative Non-Selected Companies Under Review.”

Preliminary Determination

The Department preliminarily determines that the following estimated countervailable subsidy rates exist:

Company | Ad Valorem rate (percent)
tenKsolar (Shanghai) Co., Ltd | 198.61
Changzhou Jinxi Machinery Co., Ltd | 198.61
Classic & Contemporary Inc | 16.08
Daya Hardware Co., LTD | 16.08
Dongguan Golden Tiger Hardware Industrial Co., Ltd | 16.08
ETLA Technology (Wuxi) Co., Ltd | 16.08
Global Hi-Tek Precision Limited | 16.08
Jiangsu Zhenhexiang New Material Technology Co., Ltd | 16.08
Johnson Precision Engineering (Suzhou) Co Ltd | 16.08
Kam Kiu Aluminum Products Sdn Bhd | 16.08
Ningbo Haina Machine Co., Ltd | 16.08
Ningbo Innopower Tengda Machinery Co., Ltd | 16.08
Ningbo Yinzhou Sanhua Electric Machine Factory | 16.08
Precision Metal Works LTD | 16.08
Summit Heat Sinks Metal Co., Ltd | 16.08
Suzhou New Hongji Precision Parts Co Ltd | 16.08
Taishan City Kam Kiu Aluminium Extrusion Co., Ltd | 16.08
Wuxi Huida Aluminum Co., Ltd | 16.08

Assessment Rates Cash Deposit Requirements

In accordance with 19 CFR 351.221(b)(4)(i), we preliminarily assigned subsidy rates in the amounts shown above for the producer/exporters shown above. Upon completion of the administrative review, the Department shall determine, and U.S. Customs and Border Protection (CBP) shall assess, countervailing duties on all appropriate entries covered by this review. We intend to issue assessment instructions to CBP 15 days after publication of the final results of this review.

Pursuant to section 751(a)(2)(C) of the Act, the Department also intends to instruct CBP to collect cash deposits of estimated countervailing duties in the amounts indicated above for each company listed on shipments of subject merchandise entered, or withdrawn from warehouse, for consumption on or after the date of publication of the final results of this administrative review. For all non-reviewed firms, we will instruct CBP to collect cash deposits of estimated countervailing duties at the most recent company-specific or all-others rate applicable to the company, as appropriate. These cash deposit requirements, when imposed, shall remain in effect until further notice.

Disclosure

The Department intends to disclose its calculations and analysis performed to interested parties in this preliminary determination within ten days of its public announcement, or if there is no public announcement, within five days of the date of this notice in accordance with 19 CFR 351.224(b).

Public Comment

Interested parties may submit written comments (case briefs) no later than 30 days after the date of publication of the preliminary determination. Rebuttal comments (rebuttal briefs), limited to issues raised in case briefs, may be submitted no later than five days after the deadline date for case briefs.¹⁴ Pursuant to 19 CFR 351.309(c)(2) and (d)(2), parties who submit case briefs or rebuttal briefs in this investigation are encouraged to submit with each argument: (1) A statement of the issue; (2) a brief summary of the argument; and (3) a table of authorities.¹⁵

¹⁴ See 19 CFR 351.309; see also 19 CFR 351.303 (for general filing requirements).

¹⁵ See 19 CFR 351.309(c)(2) and (d)(2).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, the Department intends to hold the hearing at the U.S. Department of Commerce, 1401 Constitution Avenue NW., Washington, DC 20230, at a time and date to be determined. Parties should confirm by telephone the date, time, and location of the hearing two days before the scheduled date. Issues addressed at the hearing will be limited to those raised in the briefs.¹⁶ All briefs and hearing requests must be filed electronically and received successfully in their entirety through ACCESS by 5:00 p.m. Eastern Time on the due date.

¹⁶ See 19 CFR 351.310(c).

Unless the deadline is extended pursuant to section 751(a)(3)(A) of the Act, we intend to issue the final results of this administrative review, including the results of our analysis of the issues raised by the parties in their comments, within 120 days after issuance of these preliminary results.

Notification to Interested Parties

These preliminary results are issued and published pursuant to sections 751(a)(1) and 777(i)(1) of the Act and 19 CFR 351.221(b)(4).

Dated: May 31, 2017.
Ronald K. Lorentzen,
Acting Assistant Secretary for Enforcement and Compliance.

Appendix I—List of Topics Discussed in the Preliminary Decision Memorandum

I. Summary

II. Background

III. Partial Rescission of Review

IV. Extension of the Preliminary Results

V. Scope of the Order

VI. Use of Adverse Facts Available

VII. Ad Valorem Rate for Non-Cooperative Companies Under Review

VIII. Ad Valorem Rate for Cooperative Non-Selected Companies Under Review

IX. Conclusion

Appendix II—List of Companies for Which We Are Rescinding This Administrative Review ¹⁷

¹⁷ According to information on the record of this review, certain companies listed below made no shipments to the United States during the instant review period. Each such company is identified as a “no shipments company.”

1. Acro Import and Export Co.

2. Activa International Inc.

3. Allied Maker Limited

4. Alnan Aluminum Co., Ltd.

5. Aluminicaste Fundicion de Mexico

6. AMC Ltd.

7. Atlas Integrated Manufacturing Ltd.

8. Belton (Asia) Development Ltd.

9. Birchwoods (Lin'an) Leisure Products Co., Ltd.

10. Bolnar Hong Kong Ltd.

11. Bracalente Metal Products (Suzhou) Co., Ltd.

12. Changshu Changshen Aluminum Products Co., Ltd.

13. Changzhou Changzhen Evaporator Co., Ltd.

14. Changzhou Tenglong Auto Parts Co., Ltd.

15. China Square

16. China Square Industrial Co.

17. China Zhongwang Holdings, Ltd.

18. Chiping One Stop Industrial & Trade Co., Ltd.

19. Clear Sky Inc.

20. Cosco (J.M.) Aluminum Co., Ltd.

21. Dalian Huacheng Aquatic Products

22. Dalian Liwang Trade Co., Ltd.

23. Danfoss Micro Channel Heat Exchanger (Jia Xing) Co., Ltd.

24. Dongguan Dazhan Metal Co., Ltd.

25. Dongguang Aoda Aluminum Co., Ltd.

26. Dragonluxe Limited

27. Dynabright International Group (HK) Ltd.

28. Dynamic Technologies China

29. Ever Extend Ent. Ltd.

30. Fenghua Metal Product Factory

31. First Union Property Limited

32. FookShing Metal & Plastic Co. Ltd.

33. Foreign Trade Co. of Suzhou New & High-Tech Industrial Development Zone

34. Foshan City Nanhai Hongjia Aluminum Alloy Co., Ltd.

35. Foshan Golden Source Aluminum Products Co., Ltd.

36. Foshan Guangcheng Aluminium Co., Ltd

37. Foshan Jinlan Aluminum Co. Ltd.

38. Foshan JMA Aluminum Company Limited

39. Foshan Shanshui Fenglu Aluminum Co., Ltd.

40. Foshan Shunde Aoneng Electrical Appliances Co., Ltd

41. Foshan Yong Li Jian Aluminum Co., Ltd.

42. Fujian Sanchuan Aluminum Co., Ltd.

43. Fuzhou Sunmodo New Energy Equipment

44. Genimex Shanghai, Ltd.

45. Global PMX Dongguan Co., Ltd.

46. Global Point Technology (Far East) Limited

47. Gold Mountain International Development, Ltd.

48. Golden Dragon Precise Copper Tube Group, Inc.

49. Gran Cabrio Capital Pte. Ltd.

50. Gree Electric Appliances

51. GT88 Capital Pte. Ltd.

52. Guang Ya Aluminium Industries (HK) Ltd.

53. Guang Ya Aluminium Industries Co., Ltd.

54. Guangdong Hao Mei Aluminium Co., Ltd.

55. Guangdong Jianmei Aluminum Profile Company Limited

56. Guangdong JMA Aluminum Profile Factory (Group) Co., Ltd.

57. Guangdong Nanhai Foodstuffs Imp. & Exp. Co., Ltd.

58. Guangdong Weiye Aluminum Factory Co., Ltd.

59. Guangdong Whirlpool Electrical Appliances Co., Ltd.

60. Guangdong Xin Wei Aluminum Products Co., Ltd.

61. Guangdong Xingfa Aluminum Co., Ltd.

62. Guangdong Yonglijian Aluminum Co., Ltd.

63. Guangdong Zhongya Aluminum Company Limited

64. Guangzhou Jangho Curtain Wall System Engineering Co., Ltd.

65. Guangzhou Mingcan Die-Casting Hardware Products Co., Ltd.

66. Hangzhou Xingyi Metal Products Co., Ltd.

67. Hanwood Enterprises Limited

68. Hanyung Alcoba Co., Ltd.

69. Hanyung Alcobis Co., Ltd.

70. Hanyung Metal (Suzhou) Co., Ltd.

71. Hao Mei Aluminum Co., Ltd.

72. Hao Mei Aluminum International Co., Ltd.

73. Hebei Xusen Wire Mesh Products Co., Ltd.

74. Henan New Kelong Electrical Appliances Co., Ltd.

75. Hong Kong Gree Electric Appliances Sales Limited

76. Hong Kong Modern Non-Ferrous Metal

77. Honsense Development Company

78. Hui Mei Gao Aluminum Foshan Co., Ltd.

79. IDEX Dinglee Technology (Tianjin) Co., Ltd.

80. IDEX Health

81. IDEX Technology Suzhou Co., Ltd.

82. Innovative Aluminum (Hong Kong) Limited

83. iSource Asia

84. Jackson Travel Products Co., Ltd.

85. Jangho Curtain Wall Hong Kong Ltd.

86. Jiangmen Jianghai District Foreign Economic Enterprise Corp. Ltd.

87. Jiangmen Jianghai Foreign Ent. Gen.

88. Jiangmen Qunxing Hardware Diecasting Co., Ltd.

89. Jiangsu Changfa Refrigeration Co.

90. Jiangyin Suncitygaylin

91. Jiangyin Trust International Inc.

92. Jiangyin Xinhong Doors and Windows Co., Ltd.

93. Jiaxing Jackson Travel Products Co., Ltd.

94. Jiaxing Taixin Metal Products Co., Ltd.

95. Jiuyan Co., Ltd.

96. JMA (HK) Company Limited

97. Justhere Co., Ltd.

98. Kanal Precision Aluminum Product Co., Ltd

99. Karlton Aluminum Company Ltd.

100. Kong Ah International Company Limited

101. Kromet International Inc.

102. Kunshan Giant Light Metal Technology Co., Ltd.

103. Liaoning Zhongwang Group Co., Ltd.

104. Liaoyang Zhongwang Aluminum Profile Co. Ltd.

105. Longkou Donghai Trade Co., Ltd.

106. Metaltek Group Co., Ltd.

107. Metaltek Metal Industry Co., Ltd.

108. Midea Air Conditioning Equipment Co., Ltd.

109. Midea International Trading Co., Ltd.

110. Midea International Training Co., Ltd.

111. Miland Luck Limited

112. Nanhai Textiles Import & Export Co., Ltd.

113. New Asia Aluminum & Stainless Steel Product Co., Ltd.

114. New Zhongya Aluminum Factory

115. Nidec Sankyo (Zhejang) Corporation

116. Nidec Sankyo Singapore Pte. Ltd.

117. Ningbo Coaster International Co., Ltd.

118. Ningbo Hi Tech Reliable Manufacturing Company

119. Ningbo Ivy Daily Commodity Co., Ltd.

120. Ningbo Yili Import and Export Co., Ltd.

121. North China Aluminum Co., Ltd.

122. North Fenghua Aluminum Ltd.

123. Northern States Metals

124. PanAsia Aluminum (China) Limited

125. Pengcheng Aluminum Enterprise Inc.

126. Permasteelisa Hong Kong Ltd.

127. Permasteelisa South China Factory

128. Pingguo Aluminum Company Limited

129. Pingguo Asia Aluminum Co., Ltd.

130. Popular Plastics Company Ltd.

131. Press Metal International Ltd.

132. Samuel, Son & Co., Ltd.

133. Sanchuan Aluminum Co., Ltd.

134. Shangdong Huasheng Pesticide Machinery Co.

135. Shangdong Nanshan Aluminum Co., Ltd.

136. Shanghai Automobile Air Conditioner Accessories Ltd.

137. Shanghai Canghai Aluminum Tube Packaging Co., Ltd

138. Shanghai Dongsheng Metal

139. Shanghai Shen Hang Imp & Exp Co., Ltd.

140. Shanghai Tongtai Precise Aluminum Alloy Manufacturing Co., Ltd.

141. Shenyang Yuanda Aluminum Industry Engineering Co. Ltd.

142. Shenzhen Hudson Technology Development Co.

143. Shenzhen Jiuyuan Co., Ltd.

144. Sihui Shi Guo Yao Aluminum Co., Ltd.

145. Sincere Profit Limited

146. Skyline Exhibit Systems (Shanghai) Co. Ltd.

147. Southwest Aluminum (Group) Co., Ltd.

148. Suzhou JRP Import & Export Co., Ltd.

149. Suzhou New Hongji Precision Part Co.

150. Tai-Ao Aluminum (Taishan) Co. Ltd.

151. Taizhou Lifeng Manufacturing Co., Ltd.

152. Taizhou Lifeng Manufacturing Corporation, Ltd.

153. Taizhou United Imp. & Exp. Co., Ltd.

154. Tianjin Ganglv Nonferrous Metal Materials Co., Ltd.

155. Tianjin Jinmao Import & Export Corp., Ltd.

156. Tianjin Ruxin Electric Heat Transmission Technology Co., Ltd.

157. Tianjin Xiandai Plastic & Aluminum Products Co., Ltd.

158. Tiazhou Lifeng Manufacturing Corporation

159. Top-Wok Metal Co., Ltd.

160. Traffic Brick Network, LLC

161. Union Aluminum (SIP) Co.

162. Union Industry (Asia) Co., Ltd.

163. USA Worldwide Door Components (Pinghu) Co., Ltd.

164. Wenzhou Shengbo Decoration & Hardware

165. Whirlpool (Guangdong)

166. Whirlpool Canada L.P.

167. Whirlpool Microwave Products Development Ltd.

168. WTI Building Products, Ltd.

169. Xin Wei Aluminum Co.

170. Xin Wei Aluminum Company Limited

171. Xinya Aluminum & Stainless Steel Product Co., Ltd.

172. Yuyao Fanshun Import & Export Co., Ltd.

173. Yuyao Haoshen Import & Export

174. Zahoqing China Square Industry Limited

175. Zhaoqing Asia Aluminum Factory Company Ltd.

176. Zhaoqing China Square Industrial Ltd.

177. Zhaoqing China Square Industry Limited

178. Zhaoqing New Zhongya Aluminum Co., Ltd.

179. Zhejiang Anji Xinxiang Aluminum Co., Ltd.

180. Zhejiang Yongkang Listar Aluminum Industry Co., Ltd.

181. Zhejiang Zhengte Group Co., Ltd.

182. Zhenjiang Xinlong Group Co., Ltd.

183. Zhongshan Daya Hardware Co., Ltd.

184. Zhongshan Gold Mountain Aluminum Factory Ltd.

185. Zhongya Shaped Aluminum (HK) Holding Limited

186. Zhuhai Runxingtai Electrical Equipment Co., Ltd.

[FR Doc. 2017-11823 Filed 6-6-17; 8:45 am]

BILLING CODE 3510-DS-P